DEPARTMENT OF ENERGY

Federal Energy Regulatory Commission

[Docket No. RP04-336-000]

Kinder Morgan Interstate Gas Transmission LLC; Notice of Tariff Filing

June 24, 2004.

Take notice that on June 17, 2004, Kinder Morgan Interstate Gas Transmission LLC (KMIGT) tendered for filing as part of its FERC Gas Tariff, the sheets listed in Appendix A of the filing, to be effective August 1, 2004.

KMIGT states that the purpose of this filing is to update, simplify, clarify and improve the storage provisions in KMIGT's tariff. KMIGT states that the proposed tariff changes would substitute inventory-based ratchets for the existing date-based ratchets in KMIGT's tariff, which provides more flexibility for shippers and enhances KMIGT's storage services.

KMIGT further states that a copy of this filing has been served upon KMIGT's customers and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1466 Filed 6-30-04; 8:45 am]

BILLING CODE 6717-01-P